FEDERAL RESERVE SYSTEM

Change in Bank Control Notices, Acquisition of Shares of Bank or Bank Holding Companies; Correction

This notice corrects a notice (FR Doc. E9-18639 published on page 39076 of the issue for Wednesday, August 5, 2009.

Under the Federal Reserve Bank of San Francisco heading, the entry for Mitsubishi UFJ Financial Group, Inc., The Bank of Tokyo-Mitsubishi UFJ, Ltd., both of Tokyo, Japan, and UnionBanCal Corporeation, San Francisco, California, is revised to read as follows:

A. Federal Reserve Bank of San Francisco (Kenneth Binning, Vice President, Applications and Enforcement) 101 Market Street, San Francisco, California 94105-1579:

1. Mitsubishi UFJ Financial Group, Inc., The Bank of Tokyo-Mitsubishi UFJ, Ltd., both of Tokyo, Japan, and UnionBanCal Corporation, San Francisco, California; to acquire Texas First Bank-Winnie, Winnie Texas, and simultaneously merge it with and into Union Bank, National Association, San Francisco, California.

Comments on this application must be received by August 28, 2009.

Board of Governors of the Federal Reserve System, August 17, 2009.
Robert deV. Frierson,
Deputy Secretary of the Board.

[FR Doc. E9-19992 Filed 8-19-09; 8:45 am]

BILLING CODE 6210-01-S